DEPARTMENT OF AGRICULTURE

Natural Resources Conservation Service

Notice of Intent: To Request a Revision of a Currently Approved Information Collection

AGENCY: Natural Resources Conservation Service, United States Department of Agriculture.

ACTION: Notice and request for comments.

SUMMARY: In accordance with the Paperwork Reduction Act of 1995 (Pub. L. 104-13), and the Office of Management and Budget (OMB) regulations at 5 CFR 1320 (60 FR 44978, August 29, 1995), this notice announces the Natural Resources Conservation Service's (NRCS) intention to revise a currently approved information collection, Long-Term Contracting, to clarify for the public information that is no longer included in the collection.

DATES: To ensure consideration, comments must be received on or before January 6, 2011.

ADDRESSES: You may send comments using any of the following methods:

• Government-wide rulemaking Web site: Go to http://www.regulations.gov and follow the instructions for sending comments electronically.

• E-mail: Jill.Atencio@wdc.usda.gov.

• Mail: Paperwork Reduction Act Comments, Department of Agriculture, Natural Resources Conservation Service, P.O. Box 2890, Washington, DC 20013.

• Hand Delivery: Department of Agriculture, 1400 Independence Avenue, SW., Room 6819 South Building, Washington, DC 20250, between 9 a.m. and 4 p.m. Eastern time, Monday through Friday, except Federal Holidays. Please ask the guard at the entrance to the South Building to call (202) 720-1854 in order to be escorted into the building.

FOR FURTHER INFORMATION CONTACT: Phyllis Watkins, Forms Manager, Administrative Services Division, Department of Agriculture, Natural Resources Conservation Service, 1400 Independence Avenue, SW., Room 4235 South Building, Washington, DC 20250; Telephone: (202) 720-3770; Fax: (202) 720-4659. Persons with disabilities who require alternative means for communication (Braille, large print, audiotape, etc.) should contact the USDA Target Center at (202) 720-2600 (voice and TDD).

SUPPLEMENTARY INFORMATION: OMB Control Number: 0578-0013.

Expiration Date of Approval: May 31, 2012.

Type of Request: To revise a currently approved information collection to update and clarify information that is no longer included in the information collection.

Abstract: The primary objective of NRCS is to work in partnership with the American people and the farming and ranching community to conserve and sustain our natural resources on privately owned land. The purpose of the Long-Term Contracting information collection is to allow for programs to provide Federal technical and financial cost-sharing assistance through long-term contracts to eligible producers, landowners, and entities. These contracts provide for making land use changes and installing conservation measures and practices to conserve, develop, and use the soil, water, and related natural resources on private lands. Under the terms of the agreement, the participant agrees to apply, or arrange to apply, the conservation treatment specified in the conservation plan. In return for this agreement, Federal financial assistance payments are made to the land user, or third party, upon successful application of the conservation treatment. Additionally, NRCS purchases easements for the long-term protection of the property and provides for the protection and management of the property for the life of the easement.

The information collected through this package is used by NRCS to ensure the proper use of program funds.

Section 2904 of the Food, Conservation, and Energy Act of 2008 (2008 Act) (Pub. L. 110-246) exempts Conservation Programs under Title II of the 2008 Act from Chapter 35 of Title 44, U.S.C. (Paperwork Reduction Act). The programs in this information collection that continue to be subject to the requirements to the Paperwork Reduction Act are listed in Table A. This request will clarify the programs in this information collection that are no longer subject to these requirements, and will identify the reduction in burden by removing these forms from the current information collection package. The exempted programs are listed in Table B.

Table A—Conservation Programs Subject to the Requirements of the Paperwork Reduction Act
Program | Description
Emergency Conservation Program (ECP) (7 CFR part 701) | USDA Farm Service Agency's ECP provides emergency funding and technical assistance for farmers and ranchers to rehabilitate farmland damaged by natural disasters and for carrying out emergency water conservation measures in periods of severe drought. Funding for ECP is appropriated by Congress.
Emergency Watershed Program (EWP) (7 CFR part 624) | The EWP was initiated in 1950 and is administered by NRCS. It provides technical and financial assistance to local institutions for the removal of storm and flood debris from stream channels and for the restoration of stream channels and levees to reduce the threat to life and property. The program also provides for establishing permanent easements in floodplains with private landowners.
Resource Conservation and Development Program (RC&D) | The RC&D was initiated in 1962 and is administered by NRCS. Through this program, NRCS assists multi-county areas in enhancing conservation, water quality, wildlife habitat, recreation, and rural development. The program provides technical and limited financial assistance for the planning and installation of approved projects.
Watershed Protection and Flood Prevention Program (WPFPP) (7 CFR part 622) | The WPFPP, otherwise known as Pub. L. 566, was initiated in 1954 and is administered by NRCS. It assists State and local units of government in flood prevention, watershed protection, and water management. Part of this effort involves the establishment of conservation practices on private lands to reduce erosion, sedimentation, and runoff.
Healthy Forests Reserve Program (HFRP) (7 CFR part 625) | HFRP is a voluntary program established for the purpose of restoring and enhancing forest ecosystems to: 1) Promote the recovery of threatened and endangered species; 2) improve biodiversity; and 3) enhance carbon sequestration. The HFRP was signed into law as part of the Healthy Forests Restoration Act of 2003 and amended by the 2008 Act authorized to be carried out from 2009 through 2012.
Wetland Conservation (WC or Swampbuster) (7 CFR part 12) | The Wetland Conservation provisions are part of the Food Security Act of 1985, as amended by the Food, Agriculture, Conservation, and Trade Act of 1990 and the Federal Agriculture Improvement and Reform Act of 1996. The WC or Swampbuster provisions condition receipt of USDA benefits on landowners and operators not converting wetlands for agricultural production purposes or to make possible the production of an agricultural commodity. All the programs in this collection except WHIP are subject to compliance with these provisions. Additionally, many of the programs in this collection condition eligibility for certain practices on the type of wetlands present on the farm or ranch, thereby needing a certified wetland determination completed per the regulation in 7 CFR part 12, subparts A and C.

Table B—Conservation Programs Exempted From the Requirements of the Paperwork Reduction Act
Wetlands Reserve Program (WRP) | WRP is a voluntary program established to assist owners of eligible lands in restoring and protecting wetlands. It is the goal of WRP to maximize wetland functions and values and optimize wildlife habitat benefits on every acre enrolled in the program particularly for migratory birds and other wetland dependent wildlife.
Farm and Ranch Lands Protection Program (FRPP) | The FRPP is a voluntary program that helps farmers and ranchers keep their land in agriculture. The program provides matching funds to State, tribal, or local governments and non-governmental organizations with existing FRPPs to purchase conservation easements.
Conservation Security Program (CSP) | CSP is a voluntary program that provides financial and technical assistance to promote the conservation and improvement of soil, water, air, energy, plant and animal life, and other conservation purposes on tribal and private working lands. The program is available in all 50 States, the Caribbean Area, and the Pacific Basin area. The program provides equitable access to benefits to all producers, regardless of size of operation, crops produced, or geographic location.
Conservation Stewardship Program | The Conservation Stewardship Program is a voluntary program that provides financial and technical assistance to promote the conservation and improvement of soil, water, air, energy, plants, and animals. It is mentioned here to clearly indicate this program as exempt from the Paperwork Reduction Act and has never been under its confines.
Grassland Reserve Program (GRP) | GRP is a voluntary program established for the purpose of protecting grazing uses and related conservation values by conserving and restoring grassland resources. GRP helps landowners and operators restore and protect grassland, including rangeland and pastureland, and certain other lands, while maintaining the areas as grazing lands. The program emphasizes support for grazing operations, plant and animal biodiversity, and grasslands and shrub lands under the greatest threat of conversion.
Wildlife Habitat Incentive Program (WHIP) | WHIP is a voluntary program that provides technical and financial assistance to enable eligible participants to protect, restore, develop, or enhance habitat for upland wildlife, wetland wildlife, threatened and endangered species, fish, and other types of wildlife in an environmentally beneficial and cost effective manner. The purpose of the program is to develop high quality wildlife habitats that support wildlife populations of local, State, and national significance.
Agricultural Management Assistance (AMA) | AMA provides cost share assistance to agricultural producers to voluntarily address issues such as water management, water quality, and erosion control by incorporating conservation into their farming operations. AMA is available only in 15 States where participation in the Federal Crop Insurance Program is historically low. Producers may construct or improve water management structures or irrigation structures; plant trees for windbreaks or to improve water quality; and mitigate risk through production diversification or resource conservation practices, including soil erosion control, integrated pest management, or transition to organic farming.
Environmental Quality Incentives Program (EQIP) | EQIP is a voluntary conservation program for farmers and ranchers that promotes agricultural production and environmental quality as compatible national goals. EQIP offers financial and technical help to assist eligible participants to install or implement structural and management practices on eligible agricultural land.

The conservation programs exempted from the Paperwork Reduction Act requirements accounted for a majority of the forms submitted and completed annually. The removal of these programs from the current information collection will result in a significant reduction in burden hours. Table C shows only the burden for those programs that are subject to the requirements of the Paperwork Reduction Act. The burden associated with those programs exempted from the Paperwork Reduction Act (as identified in Table B) has been removed.

Table C—Burden for Required Programs Under the Paperwork Reduction Act
Form | Purpose | Program(s) | * Number submitted annually
AD-1153 NRCS-CPA-1200 | Application | EWP, WPFPP, HFRP | 750; Estimated time per participant is .69 per response.
AD-1154 NRCS-CPA-1202 | Contract or Agreement | EWP, HFRP | 150; Estimated time per participant .69 per response.
AD-1155 NRCS-CPA-1155 | Schedule of Practices/Costs and signature sheet | EWP, WPFPP, HFRP | 300; Estimated time per participant .75 per response.
AD-1156 NRCS-CPA-1156 | Schedule Modification | EWP, WPFPP, HFRP | 25; Estimated time per participant .60 per response.
NRCS-LTP-13 NRCS-CPA-013 | Status/Contract Review | EWP, WPFPP, HFRP | 250; Estimated time per participant .69 per response.
NRCS-LTP-20 NRCS-CPA-260 | Warranty, Easement Deed Conservation, Easement Deed | EWP, HFRP | 150; Estimated time per participant .69 per response.
AD-1157 | Option to Purchase Easement | EWP, HFRP | 165; Estimated time per participant .69 per response.
AD-1157A | Option to Purchase, Amendment | EWP, HFRP | 120; Estimated time per participant .69 per response.
AD-1158 | Subordination Agreement and Limited Lien Waiver | EWP, HFRP | 100; Estimated time per participant .69 per response.
AD-1159 | Notice of Intent to Continue | Not used by any non-exempt program |
AD-1160 | Compatible Use Application | EWP, HFRP | 200; Estimated time per participant .66 per response.
AD-1161 | Application for Payment | EWP, HFRP | 200; Estimated time per participant .58 per response.
NRCS-LTP-151 | Contract Violation Notification | HFRP, EWP | 20; Estimated time per participant .69 per response.
NRCS-LTP-152 | Transfer Agreement | HFRP, EWP | 5; Estimated time per participant 1.0 per response.
NRCS-LTP-153 | Agreement Covering Non-Compliance With Provisions of the Contract | HFRP, EWP | 10; Estimated time per participant .69 per response.
NRCS-CPA-38 | Request for Certified Wetland Determination or Delineation | WC | 5,000; Estimated time per participant .83 per response.
NRCS-CPA-68 | Conservation Plan | CTA, HFRP | 2,700; Estimated time per participant .69 per response.
* The number submitted annually provides the number of forms completed by respondents and the approximate number of hours to complete each form. The response time is taken from the forms themselves as identified in the OMB Disclosure Statement where available.

NRCS anticipates the total number of respondents will be 10,145 (previously 37,504 hours) and that the total burden hours will be 7,661 (previously 25,291 hours). The estimated burden per response depends upon the specific form. This burden amount is identified by form in Table C and ranges from .58 hour to 1 hour per respondent.

NRCS employees generally complete the remainder of the forms in the collection and review the documents with the program participant for concurrence and acceptance. The burden was estimated based on a projected average of documents to be filed annually based on the funding level for the authorized conservation programs. The burden hours have been significantly reduced from the previous submission due to the exemption of Conservation Programs under Title II of the 2008 Act from Chapter 35 of Title 44, U.S.C. (Paperwork Reduction Act). The number of respondents was averaged from fiscal year (FY) 2008 through FY 2010. The total annual cost to the respondents is $91,932. This figure is computed based on 7,661 burden hours times a wage of $12.00 per hour.

Comments: Comments are requested on: (a) Whether the proposed collection of information is necessary for the proper performance of the functions of the agency, including whether the information will have practical utility; (b) the accuracy of the agency's estimate of the burden hours (including hours and cost) of the proposed collection of information; (c) ways to enhance the quality, utility, and clarity of the information to be collected; and (d) ways to minimize the burden of the collection of information on respondents, including through the use of automated collection techniques or other forms of information technology. Comments will be summarized and included in the request for OMB approval of this information collection, and they will also become a matter of public record.

Signed this 2nd day of December, 2010 in Washington, DC.
Dave White,
Chief, Natural Resources Conservation Service.

[FR Doc. 2010-30674 Filed 12-6-10; 8:45 am]

BILLING CODE 3410-16-P